DEPARTMENT OF HEALTH AND HUMAN SERVICES

Centers for Disease Control and Prevention

Mine Safety and Health Research Advisory Committee: Meeting

In accordance with section 10(a)(2) of the Federal Advisory Committee Act (Pub. L. 92-463), the Centers for Disease Control and Prevention (CDC) announces the following committee meeting.

Name: Mine Safety and Health Research Advisory Committee (MSHRAC).

Times and Dates: 9 a.m.-4:45 p.m., October 17, 2006. 8:45 a.m.-12:15 p.m., October 18, 2006.

Place: Hilton Garden Inn Pittsburgh/Southpointe, 1000 Corporate Drive, Canonsburg, PA 15317, telephone (724) 743-5000, fax (724) 743-5010.

Status: Open to the public, limited only by the space available. The meeting room accommodates approximately 50 people.

Purpose: This committee is charged with providing advice to the Secretary, Department of Health and Human Services; the Director, CDC; and the Director, NIOSH, on priorities in mine safety and health research, including grants and contracts for such research, 30 U.S.C. 812(b)(2), Section 102(b)(2).

Matters to be Discussed: The meeting will focus on current and planned NIOSH research related to mine disaster prevention and response and impact of the new Mine Improvement and New Emergency Response Act of 2006 (Miners Act) on the research plans. The agenda will also include an update on the Miners Choice Program and a report from the Associate Director for Mining.

Agenda items are subject to change as priorities dictate.

For Further Information Contact: Jeffery L. Kohler, PhD, Executive Secretary, MSHRAC, NIOSH, CDC,626 Cochrans Mill Road, telephone (412) 386-5301, fax (412) 386-5300.

The Director, Management Analysis and Services Office, has been delegated the authority to sign Federal Register notices pertaining to announcements of meetings and other committee management activities for both the Centers for Disease Control and Prevention and the Agency for Toxic Substances and Disease Registry.

Dated: September 20, 2006.
Alvin Hall,
Director, Management Analysis and Services Office Centers for Disease Control and Prevention (CDC).

[FR Doc. E6-15845 Filed 9-26-06; 8:45 am]

BILLING CODE 4163-18-P